DEPARTMENT OF DEFENSE

Department of the Air Force

Record of Decision for the KC-46 Third Main Operating Base (MOB 3) Beddown

AGENCY: Department of the Air Force.

ACTION: Notice of Availability (NOA) of a Record of Decision (ROD).

On September 8, 2017, the United States Air Force signed the ROD for the KC-46 Third Main Operating Base (MOB 3) Beddown. The ROD states the Air Force decision to beddown up to twelve (12) KC-46 Primary Aerospace Vehicles Authroized (PAA) in one squadron at Seymor Johnston Air Force Base, where the Air Force Reserve Command (AFRC) leads the Mobility Air Force Mission.

The decision was based on matters discussed in the Final Environmental Impact Statement (FEIS) for the KC-46 Third Main Operating Base (MOB 3) Beddown (http://www.kc-46a-beddown.com/); contributions from the public and regulatory agencies; and other relevant factors. The FEIS was made available to the public on April 14, 2017 through a NOA in the Federal Register (82 FR 17991) with a 30-day wait period that ended on May 15, 2017.

Authority: This NOA is published pursuant to the regulations (40 CFR part 1506.6) implementing the provisions of the NEPA of 1969 (42 U.S.C. 4321, et seq.) and the Air Force's Environmental Impact Analysis Process (32 CFR parts 989.21(b) and 989.24(b)(7)).

FOR FURTHER INFORMATION CONTACT: Mr. Hamid Kamalpour, AFCEC/CZN, 2261 Hughes Ave., Ste. 155, Lackland AFB, TX 78236-9853. Ph: (210) 925-2738.

Henry Williams, Jr.,
Acting Air Force Federal Register Liaison Officer.

[FR Doc. 2017-20822 Filed 9-27-17; 8:45 am]

BILLING CODE 5001-10-P